DEPARTMENT OF THE INTERIOR

Bureau of Land Management

[LLNM915000L1311000.XZ0000]

Notice of Filing of Plats of Survey, New Mexico

AGENCY: Bureau of Land Management, Interior.

ACTION: Notice of filing of Plats of Survey.

SUMMARY: The plats of survey described below are scheduled to be officially filed in the New Mexico State Office, Bureau of Land Management (BLM), Santa Fe, New Mexico, thirty (30) calendar days from the date of this publication.

FOR FURTHER INFORMATION CONTACT: These plats will be available for inspection in the New Mexico State Office, Bureau of Land Management, 301 Dinosaur Trail, Santa Fe, New Mexico. Copies may be obtained from this office upon payment. Contact Marcella Montoya at 505-954-2097, or by e-mail at Marcella_Montoya@nm.blm.gov, for assistance.

SUPPLEMENTARY INFORMATION:

New Mexico Principal Meridian, New Mexico (NM)

The plat, representing the dependent resurvey and survey of the Burec Tract, within the Tierra Amarilla Grant, of the New Mexico Principal Meridian, accepted July 6, 2010, for Group 1087 NM.

The plat, in eight sheets, representing the dependent resurvey and survey of the Chama Ranch, within the Tierra Amarilla Grant, of the New Mexico Principal Meridian, accepted July 6, 2010, for Group 1087 NM.

The plat representing the dependent resurvey and survey of the Mossman Tract, within the Tierra Amarilla Grant, of the New Mexico Principal Meridian, accepted July 6, 2010, for Group 1088 NM.

The plat, representing the dependent resurvey and survey, in Township 24 South, Range 1 East, of the New Mexico Principal Meridian, accepted May 7, 2010, for Group 1090 NM.

The plat, representing the dependent resurvey and survey, in Townships 25 and 26 North, Range 13 East, of the New Mexico Principal Meridian, accepted May 7, 2010, for Group 1082 NM.

The plat, representing the dependent resurvey and survey, in Township 17 North, Range 5 East, of the New Mexico Principal Meridian, accepted May 26, 2010, for Group 1071 NM.

The plat, in three sheets, representing the dependent resurvey and survey, in Township 17 North, Range 12 West, of the New Mexico Principal Meridian, accepted May 13, 2010, for Group 1083 NM.

Indian Meridian, Oklahoma (OK)

The plat representing the dependent resurvey and survey in Township 24 North, Range 10 East, of the Indian Meridian, accepted October 14, 2009, for Group 173 OK.

The plat representing the dependent resurvey and survey in Township 18 North, Range 21 East, of the Indian Meridian, accepted May 5, 2010, for Group 176 OK.

The plat representing the dependent resurvey and survey in Township 22 North, Range 3 East, of the Indian Meridian, accepted June 7, 2010, for Group 187 OK.

The plat, in five sheets, representing the dependent resurvey and survey in Township 9 North, Range 25 East, of the Indian Meridian, accepted May 26, 2010, for Group 61 OK.

The plat, in two sheets, representing the dependent resurvey and survey in Township 28 North, Range 24 East, of the Indian Meridian, accepted May 24, 2010, for Group 72 OK.

The plat representing the dependent resurvey and survey in Township 25 North, Range 10 East, of the Indian Meridian, accepted October 14, 2009, for Group 172 OK.

If a protest against a survey, as shown on any of the above plats, is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director or the statement of reasons must be filed with the State Director within thirty (30) days after the protest is filed.

Stephen W. Beyerlein,
Acting Chief, Branch of Cadastral, Survey/GeoSciences.

[FR Doc. 2010-18638 Filed 7-28-10; 8:45 am]

BILLING CODE 4310-FB-P